INTERNATIONAL TRADE COMMISSION

[USITC SE-02-008]

Sunshine Act Meeting

Agency Holding the Meeting: United States International Trade Commission.

Time and Date: April 8, 2002 at 2:00 p.m.

Place: Room 101, 500 E Street SW, Washington, DC 20436, Telephone: (202) 205-2000.

Status: Open to the public.

Matters to be Considered:

1. Agenda for future meeting: none.

2. Minutes.

3. Ratification List.

4. Inv. No. 731-TA-990 (Preliminary)(Non-Malleable Cast Iron Pipe Fittings from China)—briefing and vote. (The Commission is currently scheduled to transmit its determination to the Secretary of Commerce on or before April 8, 2002; Commissioners' opinions are currently scheduled to be transmitted to the Secretary of Commerce on or before April 15, 2002.)

5. Outstanding action jackets: none.

In accordance with Commission policy, subject matter listed above, not disposed of at the scheduled meeting, may be carried over to the agenda of the following meeting.

Issued: March 27, 2002.
By order of the Commission:
Marilyn R. Abbott,
Secretary.

[FR Doc. 02-7904 Filed 3-28-02; 12:46 pm]

BILLING CODE 7020-02-P